DEPARTMENT OF TRANSPORTATION

Federal Aviation Administration

14 CFR Part 39

[Docket No. FAA-2011-1245; Directorate Identifier 2011-CE-033-AD; RIN 2120-AA64]

Airworthiness Directives; Cessna Aircraft Company Airplanes

AGENCY: Federal Aviation Administration (FAA), DOT.

ACTION: Notice of proposed rulemaking (NPRM).

SUMMARY: We propose to supersede an existing airworthiness directive (AD) that applies to certain Cessna Aircraft Company (Cessna) Models 172R and 172S airplanes. The existing AD requires you to inspect the fuel return line assembly for chafing; replace the fuel return line assembly if chafing is found; and inspect the clearance between the fuel return line assembly and both the right steering tube assembly and the airplane structure, adjusting as necessary. Since we issued that AD, we have received a field report of a fuel return line chafing incident on a Cessna Model 172 airplane with a serial number (S/N) that was not included in the AD. This proposed AD would retain the actions of the current AD and add S/Ns to the Applicability section of the AD. Chafing of the fuel return line assembly could lead to fire. We are proposing this AD to correct the unsafe condition on these products.

DATES: We must receive comments on this proposed AD by December 29, 2011.

ADDRESSES: You may send comments, using the procedures found in 14 CFR 11.43 and 11.45, by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Cessna Aircraft Company, Product Support, P.O. Box 7706, Wichita, KS 67277; telephone: (316) 517-6000; fax: (316) 517-8500; email: Customercare@cessna.textron.com; Internet: http://www.cessna.com. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: (800) 647-5527) is in the ADDRESSES section. Comments will be available in the AD docket shortly after receipt.

FOR FURTHER INFORMATION CONTACT: Trenton Shepherd, Aerospace Engineer, Wichita Aircraft Certification Office, FAA, 1801 Airport Road, Room 100, Wichita, Kansas 67209; phone: (316) 946-4143; fax: (316) 946-4107; email: trent.shepherd@faa.gov.

SUPPLEMENTARY INFORMATION:

Comments Invited

We invite you to send any written relevant data, views, or arguments about this proposed AD. Send your comments to an address listed under the ADDRESSES section. Include “Docket No. FAA-2011-1245; Directorate Identifier 2011-CE-033-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On January 22, 2008, we issued AD 2008-03-02, Amendment 39-15351 (73 FR 5737, January 31, 2008), for certain Cessna Models 172R and 172S airplanes. That AD requires you to inspect the fuel return line assembly for chafing; replace the fuel return line assembly if chafing is found; and inspect the clearance between the fuel return line assembly and both the right steering tube assembly and the airplane structure, adjusting as necessary. That AD resulted from reports of chafed fuel return line assemblies, which were caused by the fuel return line assembly rubbing against the right steering tube assembly during full rudder pedal actuation. We issued that AD to detect and correct chafing of the fuel return line assembly, which could result in fuel leaking under the floor and fuel vapors entering the cabin. This condition could lead to fire under the floor or in the cabin area.

Actions Since Existing AD Was Issued

Since we issued AD 2008-03-02 (73 FR 5737, January 31, 2008), we received a field report of a fuel return line chafing incident on a Cessna Model 172 airplane with an S/N that was not included in the AD.

Relevant Service Information

We reviewed Cessna Mandatory Service Bulletin SB07-28-01, dated June 18, 2007, and Cessna Service Bulletin SB07-28-01, Revision 1, dated September 22, 2011. The service information describes the following procedures:

• Inspecting the fuel return line assembly;

• Replacing the fuel return line assembly if chafing is found; and

• Inspecting the clearance between the fuel return line assembly and both the right steering tube assembly and the airplane structure, adjusting as necessary.

FAA's Determination

We are proposing this AD because we evaluated all the relevant information and determined the unsafe condition described previously is likely to exist or develop in other products of the same type design.

Proposed AD Requirements

This proposed AD would retain all of the requirements of AD 2008-03-02 (73 FR 5737, January 31, 2008). This proposed AD would add airplanes to the applicability statement of the current AD.

Change to Existing AD

This proposed AD would retain all requirements of AD 2008-03-02 (73 FR 5737, January 31, 2008). Since AD 2008-03-02 was issued, the AD format has been revised, and certain paragraphs have been rearranged. As a result, the corresponding paragraph identifiers have changed in this proposed AD, as listed in the following table:

Revised Paragraph Identifiers
Requirement in AD 2008-03-02 | Corresponding requirement in this proposed AD
paragraph (e)(1) | paragraph (g)(1) and (g)(2)
paragraph (e)(2) | paragraph (h)
paragraph (e)(3) | paragraph (i)

Costs of Compliance

We estimate that this proposed AD affects 768 airplanes of U.S. registry.

We estimate the following costs to comply with this proposed AD:

Estimated Costs
Action | Labor cost | Parts cost | Cost per product | Cost on U.S. operators
Inspection of the fuel return line assembly for chafing and clearance | 1 work-hour × $85 per hour = $85 | Not applicable | $85 | $65,280

The difference in estimated costs of this proposed AD and AD 2008-03-02 (73 FR 5737, January 31, 2008) is an increase in the estimated labor cost for those airplanes affected by AD 2008-03-02 and the costs of the additional airplanes added to the proposed AD.

We estimate the following costs to do any necessary replacements that would be required based on the results of the proposed inspection. We have no way of determining the number of aircraft that might need these replacements:

On-Condition Costs
Action | Labor cost | Parts cost | Cost per product
Replacement of the fuel return line assembly and adjustment of the clearance between the fuel return line assembly and both the right steering tube assembly and the airplane structure | 0.5 work-hour × $85 per hour = $42.50 | $123 | $165.50

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-03-02, Amendment 39-15351 (73 FR 5737, January 31, 2008), and adding the following new AD:

Cessna Aircraft Company: Docket No. FAA-2011-1245; Directorate Identifier 2011-CE-033-AD.

(a) Comments Due Date

The FAA must receive comments on this AD action by December 29, 2011.

(b) Affected ADs

This AD supersedes AD 2008-03-02 (73 FR 5737, January 31, 2008), Amendment 39-15351.

(c) Applicability

This AD applies to the following Cessna Aircraft Company airplanes, certificated in any category:

(1) Group 1: Model 172R, serial numbers (S/N) 17281188 through 17281390;

(2) Group 2: Model 172S, S/N 172S9491 through 172S10489;

(3) Group 3: Model 172R, S/N 17281391 through 17281572; and

(4) Group 4: Model 172S, S/N 172S10490 through 172S11073.

(d) Subject

Joint Aircraft System Component (JASC)/Air Transport Association (ATA) of America Code Fuel, 28.

(e) Unsafe Condition

This AD was prompted by a field report of a fuel return line chafing incident on a Cessna Model 172 airplane with a serial number that was not in the Applicability statement of AD 2008-03-02. Chafing of the fuel return line assembly could result in fuel leaking and fuel vapors, which could lead to fire. We are issuing this AD to correct the unsafe condition on these products.

(f) Compliance

Comply with this AD within the compliance times specified, unless already done.

(g) Inspection Requirement Retained From AD 2008-03-02, Amendment 39-15351 (73 FR 5737, January 31, 2008)

(1) For Group 1 and Group 2 Airplanes: within the next 100 hours time-in-service (TIS) after March 6, 2008 (the effective date retained from AD 2008-03-02) or within the next 12 months after March 6, 2008 (the effective date retained from AD 2008-03-02), whichever occurs first, inspect the fuel return line assembly (Cessna part number (P/N) 0500118-49) for chafing. Do the inspection following Cessna Service Bulletin SB07-28-01, dated June 18, 2007.

(2) For Group 3 and Group 4 Airplanes: within the next 100 hours TIS after the effective date of this AD or within the next 12 months after the effective date of this AD, whichever occurs first, inspect the fuel return line assembly (Cessna P/N 0500118-49) for chafing. Do the inspection following Cessna Service Bulletin SB07-28-01, Revision 1, dated September 22, 2011.

(h) Replacement Requirement Retained From AD 2008-03-02, Amendment 39-15351 (73 FR 5737, January 31, 2008)

For All Airplanes: before further flight after the inspection required in paragraph (g)(1) or (g)(2) of this AD where evidence of chafing was found, replace the fuel return line assembly (Cessna P/N 0500118-49). Do the replacement following Cessna Service Bulletin SB07-28-01, dated June 18, 2007; or Cessna Service Bulletin SB07-28-01, Revision 1, dated September 22, 2011.

(i) Inspection and Adjustment Requirement Retained From AD 2008-03-02, Amendment 39-15351 (73 FR 5737, January 31, 2008)

For All Airplanes: before further flight after the inspection required in paragraph (g)(1) or (g)(2) of this AD if no chafing is found or after the replacement required in paragraph (h) of this AD, whichever of the previous situations applies, inspect for a minimum clearance of 0.5 inch between the following parts throughout the entire range of copilot rudder pedal travel. If less than 0.5 inch clearance is found, before further flight, adjust the clearance. Follow paragraph 6 of the Instructions section of Cessna Service Bulletin SB07-28-01, dated June 18, 2007; or Cessna Service Bulletin SB07-28-01, Revision 1, dated September 22, 2011. This AD requires a minimum clearance of 0.5 inch. The requirements of this AD take precedence over the actions required in the service information.

(1) The fuel return line assembly (Cessna P/N 0500118-49) and the steering tube assembly (Cessna P/N MC0543022-2C); and

(2) The fuel return line assembly (Cessna P/N 0500118-49) and the airplane structure.

(j) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(k) Related Information

(1) For more information about this AD, Trenton Shepherd, Aerospace Engineer, Wichita ACO, FAA, 1801 Airport Road, Room 100, Wichita, Kansas 67209; phone: (316) 946-4143; fax: (316) 946-4107; email: trent.shepherd@faa.gov.

(2) For service information identified in this AD, contact Cessna Aircraft Company, Product Support, P.O. Box 7706, Wichita, KS 67277; telephone: (316) 517-6000; fax: (316) 517-8500; email: Customercare@cessna.textron.com; Internet: http://www.cessna.com. You may review copies of the referenced service information at the FAA, Small Airplane Directorate, 901 Locust, Kansas City, Missouri 64106.

For information on the availability of this material at the FAA, call (816) 329-4148.

Issued in Kansas City, Missouri, on November 7, 2011.
Earl Lawrence,
Manager, Small Airplane Directorate, Aircraft Certification Service.

[FR Doc. 2011-29315 Filed 11-10-11; 8:45 am]

BILLING CODE 4910-13-P